DEPARTMENT OF HEALTH AND HUMAN SERVICES

National Institutes of Health

Center for Scientific Review; Amended Notice of Meeting

Notice is hereby given of a change in the meeting of the Center for Scientific Review Special Emphasis Panel, July 20, 2020, 11:00 a.m. to July 20, 2020, 04:00 p.m., National Institutes of Health, Rockledge II, 6701 Rockledge Drive, Bethesda, MD, 20892 which was published in the Federal Register on June 23, 2020, 85 FR 37684.

This notice is being amended to change the meeting time from 11:00 a.m. to 4:00 p.m. to 12:15 p.m. to 5:00 p.m. The meeting is closed to the public.

Dated: June 24, 2020.
Ronald J. Livingston, Jr.,
Program Analyst, Office of Federal Advisory Committee Policy.

[FR Doc. 2020-14021 Filed 6-29-20; 8:45 am]

BILLING CODE 4140-01-P